DEPARTMENT OF COMMERCE

National Oceanic and Atmospheric Administration

RIN 0648-XR99

Endangered Species; File No. 14634

AGENCY: National Marine Fisheries Service (NMFS), National Oceanic and Atmospheric Administration (NOAA), Commerce.

ACTION: Notice; receipt of application.

SUMMARY: Notice is hereby given that Douglas Peterson, PhD, University of Georgia, Warnell School of Forest Resources, Athens, GA 30602, has applied in due form for a permit to take shortnose sturgeon (Acipenser brevirostrum) for purposes of scientific research.

DATES: Written, telefaxed, or e-mail comments must be received on or before November 9, 2009.

ADDRESSES: The application and related documents are available for review by selecting “Records Open for Public Comment” from the Features box on the Applications and Permits for Protected Species (APPS) home page, https://apps.nmfs.noaa.gov/index.cfm, and then selecting File No. 14634 from the list of available applications. The application and related documents are available for review upon written request or by appointment in the following offices:

Permits, Conservation and Education Division, Office of Protected Resources, NMFS, 1315 East-West Highway, Room 13705, Silver Spring, MD 20910; phone (301)713-2289; fax (301)713-0376; and

Southeast Region, NMFS, 263 13th Avenue South, St. Petersburg, FL 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 14634.

FOR FURTHER INFORMATION CONTACT: Malcolm Mohead or Jennifer Skidmore, (301)713-2289.

SUPPLEMENTARY INFORMATION: The subject permit is requested under the authority of the Endangered Species Act of 1973, as amended (ESA; 16 U.S.C. 1531 et seq.), and the regulations governing the taking, importing, and exporting of endangered and threatened species (50 CFR 222-226).

Dr. Douglas Peterson, Warnell School of Forest Resources (Fisheries Division), University of Georgia, Athens, Georgia 30602, has requested a 5-year permit to maintain and conduct research on 95 hatchery-reared shortnose sturgeon at the University of Georgia to meet the following objectives: (1) quantify differences in the environmental tolerances of northern versus southern range shortnose sturgeon and (2) evaluate ontogenetic changes in the environmental tolerances of juvenile shortnose sturgeon. The fish would be obtained from the Warm Springs National Fish Hatchery and Regional Fisheries Center (USFWS), Warm Springs, Georgia 31830, under NMFS Permit 1604. Using a series of replicated laboratory (lethal and non-lethal) experiments, the researcher would evaluate the individual, additive, and interactive effects of the three habitat variables most critical in determining summer habitat quality for both juveniles and adult shortnose sturgeon: maximum water temperature, maximum salinity, and minimum concentration of dissolved oxygen. Researchers would also examine how environmental tolerances of shortnose sturgeon change with age and conditioning (chronic exposure). Future scientific research with these fish would involve studies of nutrition, tagging, physiology, environmental tolerance, contaminants, fish health, behavioral, tagging, genetics, and fish culture techniques. The permit would not authorize any takes from the wild, nor would it authorize any release of captive sturgeon into the wild.

Dated: October 2, 2009.
P. Michael Payne,
Chief, Permits, Conservation and Education Division, Office of Protected Resources, National Marine Fisheries Service.

[FR Doc. E9-24310 Filed 10-7-09; 8:45 am]

BILLING CODE 3510-22-S